DEPARTMENT OF HOMELAND SECURITY

Federal Emergency Management Agency

44 CFR Part 65

[Docket ID FEMA-2008-0020; Internal Agency Docket No. FEMA-B-1046]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Autauga | City of Prattville (07-04-6309P) | February 28, 2009; March 7, 2009; Prattville Progress | The Honorable Jim Byard, Jr., Mayor, City of Prattville, 101 West Main Street, Prattville, AL 36067 | February 20, 2009 | 010002
Arizona:
Coconino | Unincorporated areas of Coconino County (08-09-1418P) | February 20, 2009; February 27, 2009; Arizona Daily Sun | The Honorable Deb Hill, Chairman, Coconino County Board of Supervisors, 219 East Cherry Avenue, Flagstaff, AZ 86001 | June 29, 2009 | 040019
Maricopa | City of Avondale (08-09-0655P) | March 5, 2009; March 12, 2009; Arizona Business Gazette | The Honorable Marie Lopez, Mayor, City of Avondale, 11465 West Civic Center Drive, Suite 280, Avondale, AZ 85323 | July 10, 2009 | 040038
Maricopa | Unincorporated areas of Maricopa County (08-09-0655P) | March 5, 2009; March 12, 2009; Arizona Business Gazette | The Honorable Andrew Kunasek, Chairman, Maricopa County Board of Supervisors, 301 West Jefferson Street, 10th Floor, Phoenix, AZ 85003 | July 10, 2009 | 040037
Maricopa | City of Peoria (08-09-1474P) | January 22, 2009; January 29, 2009; Arizona Business Gazette | The Honorable Bob Barrett, Mayor, City of Peoria, City of Peoria Municipal Complex, 8401 West Monroe Street, Peoria, AZ 85345 | January 12, 2009 | 040050
Maricopa | City of Tolleson (08-09-0655P) | March 5, 2009; March 12, 2009; Arizona Business Gazette | The Honorable Adolfo F. Gámez, Mayor, City of Tolleson, 9555 West Van Buren Street, Tolleson, AZ 85353 | July 10, 2009 | 040055
California: San Diego | City of National City (08-09-1802P) | March 3, 2009; March 10, 2009; San Diego Union Tribune | The Honorable Ron Morrison, Mayor, National City, 1243 National City Boulevard, National City, CA 91950 | July 8, 2009 | 060293
Colorado: Jefferson | City of Golden (09-08-0184P) | March 5, 2009; March 12, 2009; Golden Transcript | The Honorable Jacob Smith, Mayor, City of Golden, 911 10th Street, Golden, CO 80401 | February 27, 2009 | 080090
Florida: Seminole | Unincorporated areas of Seminole County (08-04-6702P) | March 6, 2009; March 13, 2009; Orlando Sentinel | The Honorable Bob Dallari, Chairman, Seminole County Board of Commissioners, 1101 East First Street, Sanford, FL 32771 | February 25, 2009 | 120289
Georgia:
Columbia | Unincorporated areas of Columbia County (07-04-4253P) | March 1, 2009; March 8, 2009; Columbia County News Times | The Honorable Ron C. Cross, Chairman, Columbia County Board of Commissioners, P.O. Box 498, Evans, GA 30809 | July 6, 2009 | 130059
Henry | Unincorporated areas of Henry County (08-04-5164P) | March 13, 2009; March 20, 2009; Daily Herald | The Honorable Elizabeth “BJ” Mathis, Chairperson, Board of Commissioners, Henry County, 140 Henry Parkway, McDonough, GA 30253 | July 20, 2009 | 130468
Idaho:
Blaine | Unincorporated areas of Blaine County (09-10-0141P) | March 11, 2009; March 18, 2009; Idaho Mountain Express | The Honorable Tom Bowman, Chairman, Blaine County Board of Commissioners, 206 First Avenue South, Suite 300, Hailey, ID 83333 | February 27, 2009 | 165167
Blaine | City of Hailey (09-10-0141P) | March 11, 2009; March 18, 2009; Idaho Mountain Express | The Honorable Rick Davis, Mayor, City of Hailey, 115 Main Street South, Suite H, Hailey, ID 83333 | February 27, 2009 | 160022
Kentucky: Lexington-Fayette Urban County Government | Lexington-Fayette Urban County Government (08-04-5296P) | December 12, 2008; December 19, 2008; Lexington Herald Leader | The Honorable Jim Newberry, Mayor, Lexington-Fayette, Urban County Government, 200 East Main Street, 12th Floor, Lexington, KY 40507 | November 28, 2008 | 210067
Louisiana:
East Baton Rouge | Unincorporated areas of East Baton Rouge Parish (08-06-2569P) | February 11, 2009; February 18, 2009; The Advocate | The Honorable Melvin Holden, Mayor, East Baton Rouge Parish, 222 Saint Louis Street, Third Floor, Baton Rouge, LA 70802 | June 18, 2009 | 220058
East Baton Rouge | City of Zachary (08-06-2569P) | February 12, 2009; February 19, 2009; Zachary Plainsman | The Honorable Henry J. Martinez, Mayor, City of Zachary, 4700 Main Street, Zachary, LA 70791 | June 18, 2009 | 220061
New Hampshire: Grafton | Town of Waterville Valley (08-01-0905P) | September 4, 2008; September 11, 2008; Record Enterprise | The Honorable Dave Jenkins, Chair, Board of Selectmen, Town of Waterville Valley, Town Office, P.O. Box 500, Waterville Valley, NH 03215 | January 9, 2009 | 330077
North Carolina: Guilford | City of Greensboro (09-04-0087P) | March 6, 2009; March 13, 2009; Greensboro News & Record | The Honorable Yvonne J. Johnson, Mayor, City of Greensboro, P.O. Box 3136, Greensboro, NC 27402-3136 | July 13, 2009 | 375351
South Carolina: Jasper | Unincorporated areas of Jasper County (08-04-5295P) | March 4, 2009; March 11, 2009; Jasper County Sun | The Honorable Dr. George Hood, Chairman, Jasper County Council, P.O. Box 1149, Ridgeland, SC 29936 | July 9, 2009 | 450112
Texas:
Bexar | Unincorporated areas of Bexar County (09-06-0762P) | March 6, 2009; March 13, 2009; Daily Commercial Recorder | The Honorable Nelson W. Wolff, Bexar County Judge, 100 Dolorosa Street, Suite 120, San Antonio, TX 78205 | July 13, 2009 | 480035
Denton | Town of Copper Canyon (09-06-0214P) | March 2, 2009; March 9, 2009; Denton Record Chronicle | The Honorable Sue Tejml, Mayor, Town of Copper Canyon, 400 Woodland Drive, Copper Canyon, TX 75077 | February 25, 2009 | 481508
Virginia:
Fauquier | Unincorporated areas of Fauquier County (08-03-1792P) | March 5, 2009; March 12, 2009; Fauquier Times Democrat | The Honorable R. Holder Trumbo, Jr., Chairman, Board of Supervisors, 10 Hotel Street, Suite 208, Warrenton, VA 20186 | July 10, 2009 | 510055
Henrico | Unincorporated areas of Henrico County (09-03-0224P) | March 12, 2009; March 19, 2009; Richmond Times Dispatch | The Honorable David A. Kaechele, Chairman, Board of Supervisors, Henrico County, P.O. Box 90775, Henrico, VA 23273 | July 17, 2009 | 510077
Wisconsin: Dane | City of Sun Prairie (08-05-1760P) | March 12, 2009; March 19, 2009; The Star | The Honorable Joe Chase, Mayor, City of Sun Prairie, 300 East Main Street, Sun Prairie, WI 53590 | February 27, 2009 | 550573

(Catalog of Federal Domestic Assistance No. 97.022, “Flood Insurance”)

Dated: April 10, 2009.
Michael K. Buckley,
Acting Assistant Administrator, Mitigation Directorate, Department of Homeland Security, Federal Emergency Management Agency.

[FR Doc. E9-9063 Filed 4-20-09; 8:45 am]

BILLING CODE 9110-12-P